NUCLEAR REGULATORY COMMISSION

[Docket No. 50-461; NRC-2024-0122]

Constellation Energy Generation, LLC; Clinton Power Station, Unit 1; Partial Site Release

AGENCY: Nuclear Regulatory Commission.

ACTION: Public meeting; request for comment.

SUMMARY: The U.S. Nuclear Regulatory Commission (NRC) is considering a request from Constellation Energy Generation, LLC (Constellation, the licensee) to approve the release of 172.7 acres of land to DeWitt County, Illinois, for the Clinton Lake Marina. Constellation had recently identified that a Quit Claim Deed was executed by AmerGen Energy Company, LLC, a previous licensee for Clinton Power Station, Unit 1, (CPS) on September 17, 2003, without obtaining approval in accordance with NRC regulations. Constellation states that this property has not been impacted by CPS operations. The NRC will review the request as directed by NRC regulations. The NRC is soliciting public comment on the requested action and invites stakeholders and interested persons to participate.

DATES: The public meeting will be held on Wednesday, July 24, 2024, from 5:30 p.m. until 7 p.m. central time (CT), at the Clinton City Hall, 118 W Washington St., Ste. 3, Clinton, IL 61727. See Section III “Request for Comment and Public Meeting” of this document for additional information. Submit comments by July 24, 2024. Comments received after this date will be considered if it is practical to do so, but the NRC is able to ensure consideration only for comments received on or before this date.

ADDRESSES: You may submit comments by any of the following methods; however, the NRC encourages electronic comment submission through the Federal rulemaking website.

• Federal Rulemaking Website: Go to https://www.regulations.gov and search for Docket ID NRC-2024-0122. Address questions about Docket IDs in Regulations.gov to Stacy Schumann; telephone: 301-415-0624; email: Stacy.Schumann@nrc.gov. For technical questions, contact the individual listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Joel S. Wiebe, Office of Nuclear Reactor Regulation, U.S. Nuclear Regulatory Commission, Washington, DC 20555-0001, telephone: 301-415-6606; email: Joel.Wiebe@nrc.gov.

SUPPLEMENTARY INFORMATION:

I. Obtaining Information and Submitting Comments

A. Obtaining Information

Please refer to Docket ID NRC-2024-0122 when contacting the NRC about the availability of information for this action. You may obtain publicly available information related to this action by any of the following methods:

• Federal Rulemaking Website: Go to https://www.regulations.gov and search for Docket ID NRC-2024-0122.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2024-0122 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

Constellation Energy Generation LLC (Constellation, the licensee) is the holder of Facility Operating License No. NPF-62 for Clinton Power Station, Unit 1 (CPS). The license provides, among other things, that the CPS, Unit 1 is subject to all rules, regulations, and orders of the NRC now or hereafter in effect. The CPS license (NPF-62, Docket No. 50-461) is for a power reactor under part 50 of title 10 of the Code of Federal Regulations (10 CFR), “Domestic Licensing of Production and Utilization Facilities.”

The NRC received a request for approval of a partial site release from Constellation, by letter dated June 7, 2023 (ADAMS Accession No. ML23158A262), as supplemented by letter dated February 8, 2024 (ADAMS Accession No. ML24039A182). Constellation requests NRC approval to remove and release from its 10 CFR part 50, license, 172.7 acres of land for the Clinton Lake Marina in accordance with 10 CFR 50.83(b). In its request, the licensee states that the property that is subject to this release request was not used for plant operations or storage of radioactive material. As described in 10 CFR 50.83(c), the NRC will determine whether the licensee has adequately evaluated the effect of releasing the properties per the requirements of 10 CFR 50.83(a)(1); determine whether the licensee's classification of any released areas as “non-impacted” is adequately justified; and if the NRC determines that the licensee's submittal is adequate, the NRC will inform the licensee in writing that the release is approved.

III. Request for Comment and Public Meeting

The NRC will conduct a public meeting to answer questions and gather comments regarding Constellation's request for approval of the partial site release. The meeting will be held on Wednesday, July 24, 2024, from 5:30 p.m. until 7 p.m., CT, at the Clinton City Hall, 118 W Washington St., Ste. 3, Clinton, IL 61727. Comments can be provided orally or in writing to the NRC staff present at the meeting. The NRC will consider and, if appropriate, respond to these written and verbal comments, but such comments will not otherwise constitute part of the decisional record.

Please contact Joel S. Wiebe no later than July 17, 2024, by phone at 301-415-6606 or by email at Joel.Wiebe@nrc.gov, if accommodations or special equipment are needed for you to attend or to provide comments, so that the NRC staff can determine whether the request can be accommodated.

For information regarding the meeting, monitor the NRC's Public Meeting Schedule website at https://www.nrc.gov/pmns/mtg for information about the public meeting. The agenda will be posted no later than 10 days prior to the meeting.

Dated: July 3, 2024.
For the Nuclear Regulatory Commission.
Joel S. Wiebe,
Senior Project Manager, Licensing Projects Branch III, Division of Operating Reactors, Office of Nuclear Reactor Regulation.

[FR Doc. 2024-15015 Filed 7-8-24; 8:45 am]

BILLING CODE 7590-01-P